DEPARTMENT OF TRANSPORTATION

Federal Aviation Administration

[Docket No. DOT-OST-2022-0020]

Agency Information Collection Activities: Requests for Comments; Clearance of a New Approval of Information Collection: Airport Concession Disadvantaged Business Enterprise (ACDBE) Program; Correction

AGENCY: Federal Aviation Administration (FAA), Transportation (DOT).

ACTION: Notice; correction.

SUMMARY: The FAA published a Federal Register Notice with a 30-day comment period soliciting comments on the following collection of information was published on March 18, 2022. The collection involves information collected under the Department of Transportation (DOT) Airport Concession Disadvantaged Business Enterprise (ACDBE) Program. The FAA revised the estimated burden to respondents since the publish date of the previous notice, thus resulting in a lower information collection burden to respondents.

FOR FURTHER INFORMATION CONTACT: Nicholas Giles, by email at: Nicholas.giles@faa.gov; phone: 202-267-0201 Marcus England, by email at: marcus.england@faa.gov; phone: 202-267-0487.

SUPPLEMENTARY INFORMATION: Correction: In the Federal Register of March 18, 2022, FR Doc. 2022-05760, on page 15486, starting in the second column, the estimated burden is corrected as follows:

3. Monitoring and Compliance Procedures

The FAA estimated the total annual cost burden by multiplying the total annual burden hours (153 hours × 14,256 responses).

Total Annual Burden Hours: 2,181,168 hours.

4. Requirements for Submitting Overall Goal Information to the FAA

The FAA divided the total number of respondents subject to the requirement by three (396/3) to reflect that ACDBE overall goals are submitted on a triennial basis. Thus, approximately 132 respondents are required to report ACDBE overall goal information to the FAA each year.

Respondents: Recipients of FAA grants for Airport Development.

Number of Respondents: 396.

Frequency: Annually.

Number of Responses: 132.

Total Annual Burden Hours: 6,996 hours.

5. Requirements Relating to Shortfalls in Meeting Overall ACDBE Goals

5a. Respondents: CORE 30 Airports—Respondents consisting of CORE 30 airports or other airports designated by the FAA to submit, within 90 days of the end of the fiscal year, an analysis and corrective actions to the FAA for approval.

Number of Respondents: 19.

Frequency: Annually.

Number of Responses: 19.

Total Annual Burden Hours: 399 hours.

5b. Respondents: Non-CORE 30 Airports—Respondents that are not a CORE 30 airport must retain the shortfall analysis in their records for three years and make them available to the FAA, on request, for their review.

Number of Respondents: 120.

Frequency: Annually.

Number of Responses: 120.

Total Annual Burden Hours: 2,520 hours.

OMB Control Number: 2120-NEW.

Title: Airport Concession Disadvantaged Business Enterprise (ACDBE) Program.

Form Numbers: None.

Type of Review: An information collection.

Background: The Federal Register Notice with a 60-day comment period soliciting comments on the following collection of information was published on October 25, 2021. The Federal Register Notice with a 30-day comment period soliciting comments on the following collection of information was published on March 18, 2022. This notice corrects the inaccurate burden estimates provided in the previous notice. The Airport Concession Disadvantaged Business Enterprise (ACDBE) Program requires collection of information necessary to ensure that firms competing for airport development concession opportunities are not disadvantaged by unlawful discrimination.

Respondents: Approximately 396 recipients of FAA grants for airport development.

Frequency: There are one-time, annual, and triennial information collection requirements related to this program.

Estimated Average Burden per Response: 43 hours per reporting response, 153 hours per recordkeeping response.

Estimated Total Annual Burden: 2,224,391 hours.

Issued in Washington, DC, on April 20, 2022.
Nicholas Giles,
Equal Opportunity Specialist, Office of Civil Rights, National Airport Civil Rights Policy and Compliance, FAA.

[FR Doc. 2022-08771 Filed 4-22-22; 8:45 am]

BILLING CODE 4910-13-P